SMALL BUSINESS ADMINISTRATION

Notice of Approved Agency Information Collection: Certification of Women-Owned Small Business Federal Contract Program

AGENCY: U.S. Small Business Administration.

ACTION: Notice.

SUMMARY: In accordance with the Paperwork Reduction Act (PRA), the Small Business Administration (SBA) is providing notice to the public that the Office of Management and Budget (OMB) has approved the information collection request titled, “Certification of Women-Owned Small Business Federal Contract Program” (ICR). This ICR was revised in conjunction with a final rule, “Women-Owned Small Business and Economically-Disadvantaged Women-Owned Small Business Certification.”

DATES: The OMB approval of the revision of this ICR is effective immediately with an expiration date of December 31, 2020.

FOR FURTHER INFORMATION CONTACT: Nikki Burley, U.S. Small Business Administration, Office of Policy, Planning and Liaison, 409 Third Street SW, Washington, DC 20416; (202) 205-6459; nikki.burley@sba.gov.

SUPPLEMENTARY INFORMATION: On May 11, 2020, SBA published a final rule, “Women-Owned Small Business and Economically-Disadvantaged Women-Owned Small Business Certification” (Final Rule) (85 FR 27650). The Final Rule implemented a statutory requirement to certify women-owned small businesses and economically-disadvantaged women-owned small businesses participating in the Women-Owned Small Business Federal Contracting Program (WOSB Program). The Final Rule included a new section, § 127.355, that contains a requirement for third-party certifiers to submit monthly reports to SBA showing the number of applications received, number of applications approved and denied, and any other information that SBA determines would help to ensure the third party certifiers are meeting their obligations under the WOSB program, would help to strengthen oversight of third-party certifiers, and improve program performance.

In conjunction with the publication of the Final Rule SBA submitted this new reporting requirement to the Office of Management and Budget (OMB) as a revision to the information collection “Certification of Women-Owned Small Business Federal Contract Program” (OMB Control Number 3245-0374) (ICR). SBA also revised the ICR to [brief statement re the other revisions] SBA indicated in the Final Rule that the revisions to the ICR, including the new reporting requirements in § 127.355 had not yet been approved by OMB and that the SBA will publish a subsequent notice in the Federal Register when that event occurred.

By this notice, SBA announces that OMB approved the revisions to the ICR. Section 127.355 is effective immediately, as are the other revisions to the ICR. The expiration date for the ICR is December 31, 2020.

Barbara Carson,
Deputy Associate Administrator, Office of Government Contracting and Business Development.

[FR Doc. 2020-19759 Filed 9-4-20; 8:45 am]

BILLING CODE 8026-03-P